NUCLEAR REGULATORY COMMISSION

[Docket Nos. 50-237 and 50-249; NRC-2024-0080]

Constellation Energy Generation, LLC; Dresden Nuclear Power Station, Units 2 and 3; Notice of Intent To Conduct Scoping Process and Prepare Environmental Impact Statement

AGENCY: Nuclear Regulatory Commission.

ACTION: Notice; public scoping meeting and request for comment.

SUMMARY: The U.S. Nuclear Regulatory Commission (NRC) will conduct a scoping process to gather information necessary to prepare an environmental impact statement (EIS) to evaluate the environmental impacts for the subsequent license renewal (SLR) of Renewed Facility Operating License Nos. DPR-19 and DPR-25, which authorize Constellation Energy Generation, LLC (CEG, the applicant) to operate Dresden Nuclear Power Station (Dresden), Units 2 and 3. The NRC staff is seeking public comment on this action and has scheduled two public scoping meetings that will take place as online webinars.

DATES: The NRC will hold two public scoping meetings as online webinars on August 20, 2024, from 12 p.m. to 2 p.m. central time (CT) and from 5 p.m. to 7 p.m. CT. Details on both meetings can be found on the NRC's Public Meeting Schedule at https://www.nrc.gov/pmns/mtg. Submit comments on the scope of the EIS by September 4, 2024. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2024-0080. Address questions about Docket IDs in Regulations.gov to Stacy Schumann; telephone: 301-415-0624; email: Stacy.Schumann@nrc.gov. For technical questions, contact the individual listed in the For Further Information Contact section of this document.

• Email comments to: DresdenEnvironmental@nrc.gov.

• Mail comments to: Office of Administration, Mail Stop: TWFN-7-A60M, U.S. Nuclear Regulatory Commission, Washington, DC 20555-0001, ATTN: Program Management, Announcements and Editing Staff.

For additional directions on obtaining information and submitting comments, see “Obtaining Information and Submitting Comments” in the SUPPLEMENTARY INFORMATION section of this document.

FOR FURTHER INFORMATION CONTACT: Tam Tran, Office of Nuclear Material Safety and Safeguards, U.S. Nuclear Regulatory Commission, Washington, DC 20555-0001; telephone: 301-415-3617; email: Tam.Tran@nrc.gov.

SUPPLEMENTARY INFORMATION:

I. Obtaining Information and Submitting Comments

A. Obtaining Information

Please refer to Docket ID NRC-2024-0080 when contacting the NRC about the availability of information for this action. You may obtain publicly available information related to this action by any of the following methods:

• Federal Rulemaking Website: Go to https://www.regulations.gov and search for Docket ID NRC-2024-0080.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced in this document (if it is available in ADAMS) is provided the first time that it is referenced.

• NRC's PDR: The PDR, where you may examine and order copies of publicly available documents, is open by appointment. To make an appointment to visit the PDR, please send an email to PDR.Resource@nrc.gov or call 1-800-397-4209 or 301-415-4737, between 8 a.m. and 4 p.m. ET, Monday through Friday, except Federal holidays.

• Public Library: A copy of the SLR application for Dresden, including the applicant's environmental report, will be available for public review at the following public library locations: Morris Area Public Library, 604 Liberty St., Morris, IL 60450, and Coal City Library, 85 N Garfield Street, Coal City, IL 60416.

B. Submitting Comments

The NRC encourages electronic comment submission through the Federal rulemaking website (https://www.regulations.gov). Please include Docket ID NRC-2024-0080 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

By letter dated April 17, 2024 (ADAMS Package Accession No. ML24108A007), CEG submitted to the NRC an application for SLR of Renewed Facility Operating License Nos. DPR-19 and DPR-25 for Dresden, Units 2 and 3, for an additional 20 years of operation. This submission initiated the NRC's proposed action of determining whether to grant the SLR application. Dresden is located in Morris IL, approximately 23 miles southwest of Joliet, IL. The current facility operating license for Dresden, Unit 2, expires at midnight on December 22, 2029, and the current facility operating license for Dresden, Unit 3 expires at midnight on January 12, 2031. The SLR application was submitted pursuant to part 54 of title 10 of the Code of Federal Regulations (10 CFR), “Requirements for Renewal of Operating Licenses for Nuclear Power Plants,” and seeks to extend the facility operating license for Unit 2 to midnight on December 22, 2049, and Unit 3 to midnight January 12, 2051. A notice of receipt and availability of the application was published in the Federal Register on May 7, 2024 (89 FR 38197). A notice of acceptance for docketing of the application and of opportunity to request a hearing was published in the Federal Register on June 24, 2024 (89 FR 52514) and is available on the Federal rulemaking website (https://www.regulations.gov) by searching for Docket ID NRC-2024-0080.

III. Request for Comment

This notice informs the public of the NRC staff's intent to conduct environmental scoping and prepare an EIS related to the SLR application for Dresden, and to provide the public an opportunity to participate in the environmental scoping process, as defined in 10 CFR 51.29 “Scoping-environmental impact statement and supplement to environmental impact statement,” and 10 CFR 51.116, “Notice of intent.”

The regulations in 36 CFR 800.8, “Coordination with the National Environmental Policy Act,” allow agencies to use their National Environmental Policy Act of 1969, as amended (42 U.S.C. 4321, et seq.) (NEPA), process to fulfill the requirements of Section 106 of the National Historic Preservation Act of 1966 (54 U.S.C. 300101, et seq.) (NHPA).

Therefore, pursuant to 36 CFR 800.8(c), the NRC staff intends to use its process and documentation required for the preparation of the EIS on the proposed action to comply with Section 106 of the NHPA in lieu of the procedures set forth at 36 CFR 800.3 through 800.6.

In accordance with the regulations in 10 CFR part 51 and the Commission's decision in CLI-22-2 (ADAMS Accession No. ML22055A496), Dresden submitted an environmental report (ER) as part of the SLR application. The ER is available in ADAMS under Accession No. ML24108A011. The ER is also available for viewing at: https://www.nrc.gov/reactors/operating/licensing/renewal/applications/Dresden-subsequent.html.

As part of its environmental review, the NRC staff will first conduct a scoping process for the EIS and, as soon as practicable thereafter, will prepare a draft EIS for public comment. Participation in this scoping process by members of the public and local, State, Tribal, and Federal government agencies is encouraged. The scoping process for the EIS will be used to accomplish the following:

a. Define the proposed action that is to be the subject of the EIS;

b. Determine the scope of the EIS and identify the significant issues to be analyzed in depth;

c. Identify and eliminate from detailed study those issues that are peripheral or are not significant or that have been covered by prior environmental review;

d. Identify any environmental assessments and other ElSs that are being or will be prepared that are related to, but are not part of, the scope of the EIS under consideration;

e. Identify other environmental review and consultation requirements related to the proposed action;

f. Indicate the relationship between the timing of the preparation of the environmental analyses and the NRC's tentative planning and decision-making schedule;

g. Identify any cooperating agencies and, as appropriate, allocate assignments for preparation and schedules for completing the EIS to the NRC and any cooperating agencies; and

h. Describe how the EIS will be prepared, including any contractor assistance to be used.

The NRC staff invites the following entities to participate in scoping:

a. The applicant, CEG, LLC;

b. Any Federal agency that has jurisdiction by law or special expertise with respect to any environmental impact involved or that is authorized to develop and enforce relevant environmental standards;

c. Affected State and local government agencies, including those authorized to develop and enforce relevant environmental standards;

d. Any affected Native American Tribe;

e. Any person who requests or has requested an opportunity to participate in the scoping process; and

f. Any person who has petitioned or who intends to petition, for leave to intervene in the proceeding under 10 CFR 2.309.

IV. Public Scoping Meeting

In accordance with 10 CFR 51.26(b), the scoping process for an EIS may include a public scoping meeting to help identify significant issues related to the proposed action and to determine the scope of issues to be addressed in the EIS.

The NRC is announcing that it will hold two public scoping meetings as online webinars for the Dresden SLR application. Both webinars will include telephone lines for members of the public to provide comments. A court reporter will transcribe all comments received during the webinars. To be considered, comments must be provided either at the transcribed public meeting or in writing, as discussed in the ADDRESSES section of this document. The public scoping meetings will be held as online webinars on August 20, 2024, from 12 p.m. to 2 p.m. CT and from 5 p.m. to 7 p.m. CT. Persons interested in attending these online webinars should monitor the NRC's Public Meeting Schedule website at https://www.nrc.gov/pmns/mtg for additional information, agendas for the meeting, and access information for the webinar. Please contact Tam Tran no later than August 9, 2024, if accommodations or special equipment is needed to attend or to provide comments, so that the NRC staff can determine whether the request can be accommodated.

Both public scoping meetings will include: (1) an overview by the NRC staff of the environmental and safety review processes, the proposed scope of the EIS, and the proposed review schedule; and (2) the opportunity for interested government agencies, organizations, and individuals to submit comments or suggestions on environmental issues or the proposed scope of the Dresden SLR EIS.

Participation in the scoping process for the Dresden SLR EIS does not entitle participants to become parties to the proceeding to which the EIS relates. Matters related to participation in any hearing are outside the scope of matters to be discussed at this public meeting.

Dated: July 31, 2024.
For the Nuclear Regulatory Commission.
Stephen Koenick,
Chief, Environmental Project Management Branch 1, Division of Rulemaking, Environment, and Financial Support, Office of Nuclear Material Safety, and Safeguards.

[FR Doc. 2024-17246 Filed 8-2-24; 8:45 am]

BILLING CODE 7590-01-P